DEPARTMENT OF THE INTERIOR

Bureau of Indian Affairs

No Child Left Behind Act of 2001

AGENCY: Bureau of Indian Affairs, Interior.

ACTION: Extension of time for submitting nominations for tribal representatives for the No Child Left Behind Negotiated Rulemaking Committee membership.

SUMMARY: The Secretary of the Interior is extending the deadline from December 8, 2008, to January 23, 2009, for tribes to nominate individuals for membership on the No Child Left Behind Negotiated Rulemaking Committee. This committee will work with the Department of the Interior to develop recommendations for proposed regulations regarding the BIE-funded school facilities as required by the No Child Left Behind Act of 2001.

DATES: Nominations from tribes for membership in the negotiated rulemaking committee and comments on the establishment of this committee, including additional interests other than those identified in this notice, must be postmarked or faxed no later than January 23, 2009.

ADDRESSES: Send nominations and comments to the Designated Federal Official, at the following address: Michele F. Singer, Director, Office of Regulatory Management, Office of the Assistant Secretary—Indian Affairs, 1001 Indian School Road, NW., Suite 312, Albuquerque, NM 87104. Or fax to (505) 563-3811.

FOR FURTHER INFORMATION CONTACT: Michele F. Singer, Designated Federal Official. Telephone: (505) 563-3805. Fax: (505) 563-3811.

SUPPLEMENTARY INFORMATION: On October 22, 2008, we published a notice requesting nominations for a negotiated rulemaking committee. Pursuant to the mandate of the No Child Left Behind Act, the committee will prepare and submit to the Secretary of the Interior a report or reports setting out:

• A method for creating a catalog of school facilities;

• The school replacement and new construction needs of the interested parties, and a formula for the equitable distribution of funds to address those needs;

• The major and minor renovation needs of the interested parties, and the formula for the equitable distribution of funds to address such needs; and

• Facilities standards for home-living (dormitory) situations.

The Federal Register notice appeared at 73 FR 63008. In that notice we invited nominations for committee membership from tribes whose students attend BIE-funded schools, whether the school is operated by the bureau or by the tribe through a contract or grant. To the maximum extent possible, the proportional representation of tribes on the committee will reflect the proportionate share of students from tribes served by the BIE-funded school system. In addition, the Secretary will consider the balance of representation with regard to geographical location, size, and type of school and facility, as well as the interests of parents, teachers, administrators, and school board members, in selecting tribal committee representatives.

Because committee membership should reflect the diversity of tribal interests, representatives of tribal and tribally operated schools should nominate representatives and alternates who will:

• Have knowledge of school facilities and their repair, renovation, and construction (this may include knowledge and skills of construction project management, school facilities operation and management, construction cost estimation, education program space needs, budgeting and appropriation, engineering);

• Have relevant experience as past or present superintendents, principals, facility managers, teachers, or school board members or possess direct experience with school construction projects;

• Be able to coordinate, to the extent possible, with other tribes and schools who may not be represented on the committee;

• Be able to represent the tribe(s) with the authority to embody tribal views, communicate with tribal constituents, and have a clear means to reach agreement on behalf of the tribe(s);

• Be able to negotiate effectively on behalf of the tribe(s) represented;

• Be able to commit the time and effort required to attend and prepare for meetings; and

• Be able to collaborate among diverse parties in a consensus-seeking process.

In addition, in order for tribes and schools with too few students to be represented under the proportional membership computation, the Secretary invites nominations from the following parties who would be affected by the final products of the committee, which may include report(s) and/or proposed regulations:

• Tribes served by BIE-funded schools not represented by the tribes allocated seats according to share of student enrollment (please refer to the Final Convening Report prepared by CBI, p. 38 at http://ecr.gov/pdf/BIA_FinalConvRpt200803.pdf.);

• Tribes who will help to increase the geographic diversity of representation on the committee;

• Representatives who will help to increase the diversity of types of schools represented (e.g., off-reservation boarding schools, dorms, and schools serving multiple tribes);

• Representatives who might be nominated by multiple tribes or regional tribal associations and have ability to coordinate and represent a coalition or group of like-minded tribes and schools; and

• Representatives of regional or national Indian education organizations. Nominees of these interests, like the proportionate-share nominees, must meet the criteria of this section.

There will be a facilitation team available to assist tribes or groups of tribes in selecting nominees who can meet the nomination criteria and represent the interests of multiple tribes and schools. For such assistance, Tribes may contact Sarah Palmer, Senior Program, Manager, U.S. Institute for Environmental Conflict Resolution, 130 South Scott Avenue, Tucson, AZ 85701, Direct Telephone: (520) 901-8556, e-mail: palmer@ecr.gov. Web site: http://www.ecr.gov.

We will consider nominations for tribal committee representatives only if they are nominated through the process identified in this notice and in the Federal Register notice at 72 FR 63008. We will not consider any nominations that we receive in any other manner. We will also not consider nominations for Federal representatives. Only the Secretary may nominate Federal employees to the committee.

Nominations must include the following information about each tribal nominee for membership on the No Child Left Behind negotiated rulemaking committee:

(1) The nominee's name, tribal affiliation, job title, major job duties, employer, business address, business telephone and fax numbers (and business e-mail address, if applicable);

(2) The tribal interest(s) to be represented by the nominee (see section V of the notice appeared at 73 FR63008) and whether the nominee will represent other interest(s) related to this rulemaking, as the tribe may designate;

(3) A resumé reflecting the nominee's qualifications and experience in Indian education (including being a parent of a student attending a BIE-funded school) and experience in any phase of school facility construction (including master planning, project planning, design, construction, and facility management), indicating that the nominee can adequately represent the interest(s) identified in (2) above; and

(4) A brief description of how they will represent tribal views, communicate with tribal constituents, and have a clear means to reach agreement on behalf of the tribe(s) they are representing. Additionally, a statement as to whether the nominee is only representing one tribe's views or whether the expectation is that the nominee represents a group of tribes.

To be considered, nominations must be received by the close of business on the date listed in the DATES section, at the location indicated in the ADDRESSES section. Nominations and comments received will be available for inspection at the address listed above from 8 a.m. to 4 p.m., Monday through Friday, except Federal holidays.

Dated: December 24, 2008.
George T. Skibine,
Acting Deputy Assistant Secretary for Policy and Economic Development.

[FR Doc. E8-31411 Filed 1-5-09; 8:45 am]

BILLING CODE 4310-02-P